DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Census In Schools Focus Groups.

Form Number(s): None.

OMB Control Number: None.

Type of Request: New collection.

Burden Hours: 135.

Number of Respondents: 90.

Average Hours per Response: 1.5 hours.

Needs and Uses: For the 2010 Census, among the many other outreach efforts, the U.S. Census Bureau implemented the Census in Schools (CIS) Program with three primary objectives: (1) To increase the mail-back response rate of Census forms; (2) to improve accuracy and reduce differential undercount; and (3) to increase cooperation with enumerators in the field during the Census data collection period.

The CIS Program educated primary and secondary school students about the Census; the students, in turn, could inform their parents about the importance of returning the 2010 Census forms. The Census Bureau distributed materials, including promotional brochures, take-home materials, fact sheets, lesson plans, maps, quick start teaching guides, and other aids aimed at increasing the mail-back response and participation rates. The Census Bureau distributed these materials to over 118,000 schools representing grades kindergarten through 12th grade. Some of these materials were in the form of printed copies. Hundreds of thousands of additional copies were downloaded in electronic form from the 2010 Census in Schools Web site.

The purpose of the CIS Program research described in this document is three-fold: (1) To identify the types, content, and design of materials that schools prefer in preparation for the 2020 Census and in the years leading up to the 2020 Census; (2) to assess the barriers to use of the materials, so that the Census Bureau can address how to eliminate or minimize the barriers; and (3) to identify improvements in the CIS program that can be implemented in the near-, mid-, and long-term, including the needs of executive-level educators.

The Census Bureau needs to collect and analyze qualitative data to address the following research questions:

(a) How can the CIS program targeting kindergarten through high school level students, teachers, and administrators be improved for the 2020 Census?

(b) What new methods can the Census Bureau use in going forward during the intercensal years to reach out to educators and students from kindergarten to the college levels in order to maintain strong relationships with the education community?

(c) What are the needs of executive-level educators regarding statistical literacy and the types of materials Federal statistical agencies could provide to be most helpful with regards to statistics education, from the most basic level (kindergarten) to the most advanced (graduate studies)?

(d) What metrics can be used to monitor and assess the impact of the CIS program in the future?

Essentially, the research for which data collection approval is being sought seeks to inform the future direction, composition, and maintenance of this outreach program for the next eight or nine years, in preparation for the 2020 Census.

The Census Bureau proposes to collect qualitative data via six focus groups among CIS school administrators and teachers. The Census Bureau intends to ask CIS program participants about ways the program can be improved, and ways in which their own participation can be enhanced in future years. The resulting qualitative data will be used by Census Bureau management staff to create recommendations for program redesign in order to improve the CIS program in the years leading up to and including the next Census.

Affected Public: Not-for-profit institutions; State, Local or Tribal governments.

Frequency: One time.

Respondent's Obligation: Voluntary.

Legal Authority: Title 13 U.S.C., Sections 141 and 193.

OMB Desk Officer: Brian Harris-Kojetin, (202) 395-7314.

Copies of the above information collection proposal can be obtained by calling or writing Diana Hynek, Departmental Paperwork Clearance Officer, (202) 482-0266, Department of Commerce, Room 6616, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: March 11, 2011.
Glenna Mickelson,
Management Analyst, Office of the Chief Information Officer.

[FR Doc. 2011-6116 Filed 3-15-11; 8:45 am]

BILLING CODE 3510-07-P